DEPARTMENT OF COMMERCE

National Oceanic and Atmospheric Administration

[I.D. 012304A]

Comment Request: National Estuary Restoration Inventory

AGENCY: National Oceanic and Atmospheric Administration (NOAA).

ACTION: Notice.

SUMMARY: The purpose of this document is to invite the public to comment on the recently launched National Estuary Restoration Inventory (NERI), an on-line database of estuary habitat restoration projects that is available to the public for electronic submission and viewing of project information. This document provides background information about the inventory and guidelines for submitting comments. The National Estuary Restoration Inventory contains information about estuary habitat restoration projects implemented across the country. Restoration practitioners may submit eligible projects to the inventory over the Internet via a user-friendly data entry interface. Approved project information will be made available to the public through queries and reports on the NERI web site.

DATES: Written comments (in paper or electronic format) will be accepted upon publication of this document in the Federal Register and must be received by March 26, 2004. Comments received by this date will be summarized and may be incorporated into the NERI site at a later phase.

ADDRESSES: Direct all written comments to Nancy Lou, NOAA Damage Assessment and Restoration Center, 7600 Sand Point Way, Seattle, WA 98115; ATTN: NERI Public Comments (or via the Internet at Nancy.Lou@noaa.gov). NERI is available at the following URL: http://neri.noaa.gov/.

FOR FURTHER INFORMATION CONTACT: Nancy Lou at (206)526-0000 (or via the Internet at Nancy.Lou@noaa.gov) or Amy Zimmerling at (301)713-2989 (or via the Internet at Amy.Zimmerling@noaa.gov).

SUPPLEMENTARY INFORMATION:

I. Background

The Estuary Restoration Act (ERA), signed into law in November 2000, makes restoring our estuaries a national priority. The ERA promotes the restoration of one million acres of estuarine habitat by 2010 by leveraging limited Federal resources with state and local funding, developing and enhancing monitoring and research capabilities, and encouraging partnerships among public agencies and between the public and private sectors. As part of the ERA, NOAA is required to develop and maintain an inventory of estuary restoration projects.

The purpose of the inventory is to: provide information on monitoring and restoration techniques to advance the science of restoration, track acres of habitat restored toward the one million acre goal of the ERA, and provide information for reports transmitted to Congress. In addition, the inventory may be a resource for restoration practitioners to monitor the progress of their own restoration projects. Project information can also be shared with the restoration community over the NERI web site (see ADDRESSES).

Phase 1 developments have been completed for the inventory which went on-line on February 16, 2004. Phase 2 developments will include additional searching capabilities, an interactive mapping application, as well as the incorporation of any viable suggestions from this request for comments.

II. Overview of the Inventory

The National Estuary Restoration Inventory is an on-line database of restoration projects. Restoration practitioners may voluntarily submit eligible restoration projects for entry into the inventory using an on-line submission form. Eligible projects must: (1) aim to provide ecosystem benefits for estuaries and their associated ecosystems, and (2) include monitoring to gauge the success of restoration efforts. Submission is mandatory for projects funded through the Estuary Restoration Act.

Restoration practitioners are notified once their project(s) is (are) accepted into the inventory via e-mail at which time they may log into the inventory and begin entering information for their project(s). The data entry interface contains twelve sections for entering data including general information, project abstract, contacts, geographic location, project benefits, habitat types and acreage restored, restoration techniques, monitoring and success criteria, regional restoration plans, project partners, budget, and project photos. Once updated project information is approved by NERI administrators, the data will be made available on-line through queries and reports. To assist users with entering and querying data, a detailed Help section has been created with descriptions of all inventory fields as well as useful tips for searching the inventory. In addition, users may contact the NERI administrators with questions, comments, and suggestions via e-mail at neri@noaa.gov.

III. Request for Comments

Comments are invited on: (a) the usability of the site for entering, updating, and viewing information on estuary habitat restoration projects; (b) the types of information being tracked, including comments on specific fields and/or suggestions for additional/fewer fields; (c) ways to enhance the quality, utility, and clarity of the information presented; and (d) other suggestions that would make the site more user-friendly.

Comments submitted in response to this notice will be summarized and published as part of the public record. All comments will be reviewed by the NERI development team and addressed either via e-mail response or in a later phase of development. Comments must be received by March 26, 2004.

Dated: February 19, 2004.
Rebecca Lent,
Deputy Assistant Administrator for Regulatory Programs, National Marine Fisheries Service.

[FR Doc. 04-4150 Filed 2-24-04; 8:45 am]

BILLING CODE 3510-22-S